DEPARTMENT OF THE INTERIOR

National Park Service

[NPS-AKRO-DENA-21466; PPAKAKROR4; PPMPRLE1Y.LS0000]

Notice of an Open Public Meeting for the National Park Service Alaska Region Subsistence Resource Commission Program

AGENCY: National Park Service, Interior.

ACTION: Meeting notice.

SUMMARY: As required by the Federal Advisory Committee Act (16 U.S.C. Appendix 1-16), the National Park Service (NPS) is hereby giving notice that the Denali National Park Subsistence Resource Commission (SRC) will hold a public meeting to develop and continue work on NPS subsistence program recommendations, and other related regulatory proposals and resource management issues. The NPS SRC program is authorized under title VIII, section 808 of the Alaska National Interest Lands Conservation Act, Public Law 96-487.

DATES: The Denali National Park SRC will meet from 10:30 a.m. to 5:00 p.m. or until business is completed on Tuesday, August 2, 2016.

ADDRESSES: The Denali National Park SRC will meet at Friday Creek at the Kantishna Yurt in Denali National Park, AK.

For more detailed information regarding this meeting, or if you are interested in applying for SRC membership, contact Designated Federal Official Donald Striker, Superintendent, at (907) 683-9581, or via email at don_striker@nps.gov or Amy Craver, Subsistence Manager at (907) 644-3604 or by email at amy_craver@nps.gov or Clarence Summers, Subsistence Manager, at (907) 644-3603 or via email at clarence_summers@nps.gov.

Proposed Meeting Agenda: The agenda may change to accommodate SRC business. The proposed meeting agenda includes the following:

1. Call to Order—Confirm Quorum

2. Welcome and Introductions

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Reports

a. Ranger Update

b. Resource Manager's Report

c. Subsistence Manager's Report

14. Public and Other Agency Comments

15. Work Session

16. Set Tentative Date and Location for Next SRC Meeting

17. Adjourn Meeting

SRC meeting locations and dates may change based on inclement weather or exceptional circumstances. If the meeting date and location are changed, the Superintendent will issue a press release and use local newspapers and radio stations to announce the rescheduled meeting.

SUPPLEMENTARY INFORMATION: The meetings are open to the public and will have time allocated for public testimony. The public is welcome to present written or oral comments to the SRC. SRC meetings will be recorded and meeting minutes will be available upon request from the Superintendent for public inspection approximately six weeks after the meeting. Before including your address, telephone number, email address, or other personal identifying information in your comment, you should be aware that your entire comment—including your personal identifying information—may be made publicly available at any time. While you may ask us in your comment to withhold your personal identifying information from public review, we cannot guarantee that we will be able to do so.

Alma Ripps,
Chief, Office of Policy.

[FR Doc. 2016-16138 Filed 7-7-16; 8:45 am]

BILLING CODE 4310-EE-P